DEPARTMENT OF LABOR

Employment and Training Administration

[TA-W-71,414]

Tata Technologies Incorporated; A Subsidiary of Tata Technologies Limited: Formally Known As Incat: Novi, MI; Amended Certification Regarding Eligibility To Apply for Worker Adjustment Assistance

In accordance with section 223 of the Trade Act of 1974, as amended (“Act”), 19 U.S.C. 2273, the Department of Labor issued a Certification of Eligibility to Apply for Worker Adjustment Assistance on January 21, 2010, applicable to workers of Tata Technologies Incorporated, a subsidiary of TATA Technologies Limited, Novi, Michigan. The notice was published in the Federal Register on March 5th, 2010 (75 FR 10322).

At the request of the State Agency, the Department reviewed the certification for workers of the subject firm. The workers are engaged in activities related to providing engineering design and product lifecycle management.

Information reports that before April 2009, Tata Technologies Incorporated, a subsidiary of Tata Technologies Limited, was formally known as INCAT. Some workers separated from employment at the subject firm had their wages reported under two separate unemployment insurance (UI) tax accounts under the names Tata Technologies Incorporated, a subsidiary of Tata Technologies Limited, formally known as INCAT.

Accordingly, the Department is amending this certification to properly reflect this matter.

The intent of the Department's certification is to include all workers of the subject firm who were adversely affected by an affiliated vendor acquiring engineering design and product lifecycle management in India.

The amended notice applicable to TA-W-71,414 is hereby issued as follows:

All workers of Tata Technologies Incorporated, a subsidiary of Tata Technologies Limited, formerly known as INCAT, Novi, Michigan, who became totally or partially separated from employment on or after June 25, 2008, through January 21, 2012, and all workers in the group threatened with total or partial separation from employment on date of certification through two years from the date of certification, are eligible to apply for adjustment assistance under Chapter 2 of Title II of the Trade Act of 1974, as amended.

Signed at Washington, DC, this 13th day of April 2010.
Elliott S. Kushner,
Certifying Officer, Division of Trade Adjustment Assistance.

[FR Doc. 2010-9487 Filed 4-22-10; 8:45 am]

BILLING CODE 4510-FN-P